DEPARTMENT OF COMMERCE

Bureau of Industry and Security

15 CFR Parts 736, 744 and 762

[Docket No. 200813-0225]

RIN 0694-AH99

Addition of Huawei Non-U.S. Affiliates to the Entity List, the Removal of Temporary General License, and Amendments to General Prohibition Three (Foreign-Produced Direct Product Rule)

AGENCY: Bureau of Industry and Security, Commerce.

ACTION: Final rule.

SUMMARY: Huawei Technologies Co., Ltd. (Huawei) and a number of non-U.S. affiliates have been placed on the Entity List. In order to further address the continuing threat to U.S. national security and foreign policy interests posed by Huawei and its non-U.S. affiliates, the Bureau of Industry and Security (BIS) in this final rule is making three sets of changes to controls for Huawei and its listed non-U.S. affiliates under the Export Administration Regulations (EAR). First, BIS is adding additional non-U.S. affiliates of Huawei to the Entity List because they also pose a significant risk of involvement in activities contrary to the national security or foreign policy interests of the United States. Second, this rule removes a temporary general license for Huawei and its non-U.S. affiliates and replaces those provisions with a more limited authorization that will better protect U.S. national security and foreign policy interests. Third, in response to public comments, this final rule amends General Prohibition Three, also known as the foreign-produced direct product rule, to revise the control over certain foreign-produced items recently implemented by BIS. These revisions are consistent with the authority provided by the Export Control Reform Act of 2018 (ECRA).

DATES: This rule is effective August 17, 2020.

FOR FURTHER INFORMATION CONTACT: For questions on the foreign direct product change, contact Sharron Cook, Senior Export Policy Analyst, Regulatory Policy Division, Office of Exporter Services, Bureau of Industry and Security, Department of Commerce, Phone: (202) 714-6685 or email your inquiry to: Sharron.Cook@bis.doc.gov. For other questions on this rule, contact the Director, Office of Exporter Services, Bureau of Industry and Security, Department of Commerce, Phone: (949) 660-0144 or (408) 998-8806 or email your inquiry to: ECDOEXS@bis.doc.gov.

SUPPLEMENTARY INFORMATION:

Background

Huawei Technologies Co., Ltd. (Huawei) and sixty-eight of its non-U.S. affiliates were added to the Entity List effective May 16, 2019 (84 FR 22961, May 21, 2019). Effective August 19, 2019 (84 FR 43487, August 21, 2019), an additional forty-six non-U.S. affiliates were placed on the Entity List. Their addition to the Entity List imposed a licensing requirement under the Export Administration Regulations (EAR) regarding the export, reexport, or transfer (in-country) of most items subject to the EAR to any of these one hundred and fifteen listed Huawei entities. With this final rule, in order to better address the continuing threat to U.S. national security and U.S. foreign policy interests posed by Huawei and its non-U.S. affiliates, the Bureau of Industry and Security (BIS) is making three sets of changes to controls for Huawei and its non-U.S. affiliates under the EAR.

First, BIS is adding thirty-eight additional non-U.S. affiliates of Huawei to the Entity List because they also pose a significant risk of involvement in activities contrary to the national security or foreign policy interests of the United States. This rule also revises the Huawei entry and the entries of three existing Huawei affiliate entries on the Entity list, two under the destination of China and one under Brazil.

Second, this rule removes a temporary general license for Huawei and its non-U.S. affiliates and replaces those provisions with a more limited permanent authorization that will further protect U.S. national security and foreign policy interests. This rule also makes conforming changes to all of the entries for Huawei and non-U.S. affiliates that were added to the Entity List effective May 16, 2019, and effective August 19, 2019, as well as for the thirty-eight additional non-U.S. affiliates of Huawei being added to the Entity List with this rule, to reflect the removal of the temporary general license and the more limited permanent authorization which is being implemented in this rule by excluding certain additional specified exports, reexports, and transfers (in-country) from the License Requirement column for entries for Huawei and its non-U.S. affiliates on the Entity List.

Third, this final rule amends General Prohibition Three, also known as the foreign-produced direct product rule, to revise the control over certain foreign-produced items. The control of the following foreign-produced items will now apply when there is knowledge that either the foreign-produced item will be incorporated into, or that the foreign-produced item will be used in the “production” or “development” of any “part,” “component,” or “equipment” produced, purchased, or ordered by any entity with a footnote 1 designation in the license requirement column of this supplement; or when any entity with a footnote 1 designation in the license requirement column of this supplement is a party to any transaction involving the foreign-produced item, e.g., as a “purchaser,” “intermediate consignee,” “ultimate consignee,” or “end-user.” These revisions promote U.S. national security by limiting access to, and use of, U.S. technology to design and produce items outside the United States by entities that pose a significant risk of involvement in activities contrary to the national security or foreign policy interests of the United States. In order to assist the public to more easily follow the description of these changes in this rule, BIS describes these changes under three sections in the Background section of this rule: (A) Additional Non-U.S. Affiliates of Huawei Added to the Entity List and Revisions to Current Entries on the Entity List; (B) Removal of Temporary General License (TGL) and Conforming Changes to Entity List for TGL Removal; and (C) Changes to General Prohibition Three—The Foreign-Produced Direct Product Rule.

A. Additional Non-U.S. Affiliates of Huawei Placed on the Entity List and Revisions to Current Entries on the Entity List

1. Additions of Non-U.S. Affiliates of Huawei to the Entity List

The Entity List (supplement no. 4 to part 744 of the EAR) identifies entities for which there is reasonable cause to believe, based on specific and articulable facts, that the entities have been involved, are involved, or pose a significant risk of being or becoming involved in activities contrary to the national security or foreign policy interests of the United States. The EAR (15 CFR parts 730-774) impose additional license requirements on, and limit the availability of most license exceptions for exports, reexports, and transfers (in-country) involving listed entities. The license review policy for each listed entity is identified in the “License review policy” column on the Entity List, and the impact on the availability of license exceptions is described in the relevant Federal Register document adding entities to the Entity List. BIS places entities on the Entity List pursuant to part 744 (Control Policy: End-User and End-Use Based) and part 746 (Embargoes and Other Special Controls) of the EAR.

The End-User Review Committee (ERC), composed of representatives of the Departments of Commerce (Chair), State, Defense, Energy and, where appropriate, the Treasury, makes all decisions regarding additions to, removals from, or other modifications to the Entity List. The ERC makes all decisions to add an entry to the Entity List by majority vote and all decisions to remove or modify an entry by unanimous vote.

Huawei and sixty-eight of its non-U.S. affiliates were added to the Entity List effective May 16, 2019 (84 FR 22961, May 21, 2019), (hereinafter the “May 21 rule”). Effective August 19, 2019, an additional forty-six non-U.S. affiliates were placed on the Entity List (84 FR 43493, Aug. 21, 2019), (hereinafter the “August 21 rule”). These actions imposed a licensing requirement for the export, reexport, or transfer (in-country) of any item subject to the EAR to any of these one hundred fifteen listed Huawei entities.

As stated in the May 21 and August 21 rules, the ERC determined that there is reasonable cause to believe that Huawei has been involved in activities determined to be contrary to the national security or foreign policy interests of the United States and that the listed Huawei affiliates pose a significant risk of becoming involved in activities contrary to the national security or foreign policy interests of the United States due to their relationship with Huawei. To illustrate, as set forth in the Superseding Indictment filed in the Eastern District of New York (see the May 21, 2019 rule at page 22961), Huawei is charged with participating, along with certain affiliates, in alleged criminal violations of U.S. laws. The Superseding Indictment also alleges that Huawei and affiliates acting on Huawei's behalf engaged in a series of deceptive and obstructive acts designed to evade U.S. law and to avoid detection by U.S. law enforcement. See the May 21 rule for additional information on this determination and the resulting additions to the Entity List.

This rule implements the decision of the ERC to add thirty-eight additional entities to the Entity List that the ERC determined also present a significant risk of acting on Huawei's behalf to engage in activities determined to be contrary to the national security or foreign policy interests of the United States. The additions and modifications impact affiliates of Huawei in twenty-one different destinations: The People's Republic of China (China), Argentina, Brazil, Chile, Egypt, France, Germany, India, Israel, Mexico, Morocco, the Netherlands, Peru, Russia, Singapore, South Africa, Switzerland, Thailand, Turkey, the United Arab Emirates, and the United Kingdom. This rule lists entities that are located in China's Hong Kong Special Administrative Region (HKSAR) under the Entity List heading for China, consistent with the suspended application of Section 201 of the United States-Hong Kong Policy Act of 1992 (Pub. L. 102-393) to ECRA by Executive Order 13936, July 14, 2020. The ERC made the decision to add each of the thirty-eight entities described below under the standard set forth in § 744.11(b) of the EAR. Without the imposition of a license requirement to these affiliated entities, there is reasonable cause to believe that Huawei would seek to use them to evade the restrictions imposed by its addition to the Entity List.

These additional thirty-eight non-U.S. affiliates of Huawei raise sufficient concern that prior review of exports, reexports, or transfers (in-country) of items subject to the EAR involving these entities, and the possible imposition of license conditions or license denials on shipments to these entities will enhance BIS's ability to prevent activities contrary to the national security or foreign policy interests of the United States.

As with the Huawei entities added to the Entity List in the May 21 and August 21 rules, BIS imposes for each of the entities added in this final rule—see list below—a license requirement for all items subject to the EAR, see Section C of the Supplementary Information. As specified in the License Requirement column, a license is not required for technology subject to the EAR that is designated as EAR99, or controlled on the Commerce Control List (CCL) for anti-terrorism reasons only, when released to members of a “standards organization” for the purpose of contributing to the revision or development of a “standard.” The License Review Policy column indicates a license review policy of a presumption of denial. Similarly, no license exceptions are available for exports, reexports, or transfers (in-country) when that entity is acting as a purchaser, intermediate or ultimate consignee, or end-user as defined in the EAR with respect to the persons being added to the Entity List in this rule.

The acronym “a.k.a.” (also known as) is used in entries on the Entity List to identify aliases, thereby assisting exporters, reexporters, and transferors in identifying entities on the Entity List.

For the reasons described above, this final rule adds the following thirty-eight entities to the Entity List:

China

• Huawei Cloud Computing Technology;

• Huawei Cloud Beijing;

• Huawei Cloud Dalian;

• Huawei Cloud Guangzhou;

• Huawei Cloud Guiyang;

• Huawei Cloud Shanghai;

• Huawei Cloud Shenzhen;

• Huawei OpenLab Suzhou; and

• Wulanchabu Huawei Cloud Computing Technology.

Argentina

• Huawei Cloud Argentina.

Brazil

• Huawei Cloud Brazil.

Chile

• Huawei Cloud Chile.

Egypt

• Huawei OpenLab Cairo.

France

• Huawei Cloud France; and

• Huawei OpenLab Paris.

Germany

• Huawei Cloud Berlin;

• Huawei OpenLab Munich; and

• Huawei Technologies Dusseldorf GmbH.

Hong Kong

• Huawei Cloud Hong Kong.

India

• Huawei OpenLab Delhi.

Israel

• Toga Networks.

Mexico

• Huawei Cloud Mexico; and

• Huawei OpenLab Mexico City.

Morocco

• Huawei Technologies Morocco.

Netherlands

• Huawei Cloud Netherlands.

Peru

• Huawei Cloud Peru.

Russia

• Huawei Cloud Russia; and

• Huawei OpenLab Moscow.

Singapore

• Huawei Cloud Singapore; and

• Huawei OpenLab Singapore.

South Africa

• Huawei Cloud South Africa; and

• Huawei OpenLab Johannesburg.

Switzerland

• Huawei Cloud Switzerland.

Thailand

• Huawei Cloud Thailand; and

• Huawei OpenLab Bangkok.

Turkey

• Huawei OpenLab Istanbul.

United Arab Emirates

• Huawei OpenLab Dubai.

United Kingdom

• Huawei Technologies R&D UK.

2. Revisions to Current Entries on the Entity List

This final rule revises four existing entries, three under the destination of China and one under Brazil. Specifically, this final rule revises the Huawei entry and three existing Huawei affiliate entries on the Entity list, two under the destination of China and one under Brazil as follows:

This rule implements a revision to the existing entry for Huawei Device Co., Ltd. (Dongguan), first added to the Entity List under the destination of China in the May 21 rule, by adding two aliases and two additional addresses. This rule additionally implements a revision to the two existing entries—Huawei Device (Shenzhen) Co., Ltd. under the destination of China and Huawei do Brasil Telecomunicacões Ltda under the destination of Brazil—by adding one additional address for each entity. This rule also implements a revision to the May 21 rule for the existing entry for Huawei Technologies Co., Ltd. (Huawei) under the destination of China by adding one additional alias and two additional addresses.

B. Removal of Temporary General License (TGL) and Conforming Changes to Entity List for TGL Removal

As published on May 22, 2019 (84 FR 23468), extended and amended through a final rule published on August 21, 2019 (84 FR 43487), and as extended through a final rule published on May 18, 2020 (85 FR 29610), any exports, reexports, or in-country transfers of items subject to the EAR to any of the listed Huawei entities as of the effective date they were added to the Entity List continue to require a license, with the exception of transactions explicitly authorized by the temporary general license and eligible for export, reexport, or transfer (in-country) prior to May 16, 2019, without a license or under a license exception.

Notice of Inquiry Regarding Future Extensions of TGL

On March 12, 2020, BIS published a notification of inquiry, Request for Comments on Future Extensions of Temporary General License (TGL) (85 FR 14428), requesting comments to assist the U.S. Government in evaluating whether the TGL should continue to be extended, to evaluate whether any other changes may be warranted to the TGL, and to identify any alternative authorization or other regulatory provisions that may more effectively address what is being authorized under the TGL.

In announcing an extension of the TGL on May 15, 2020, the Department notified the public that activities authorized in the TGL may be revised and possibly eliminated after August 13, 2020. Companies and persons relying on TGL authorizations were instructed to begin preparations to determine the specific, quantifiable impact of elimination if they had not done so already. Those companies and persons were also informed that they should be prepared to submit license applications to the Department to determine which, if any, activities would be authorized in the event that the TGL authorization was eliminated.

Response to Comments on the Notice of Inquiry Regarding Future Extensions of TGL

The public comment period for this notification of inquiry closed on April 22, 2020. BIS received 25 public comments. Thirteen of the comments were submitted by companies and major trade associations. All of these commenters were supportive of the TGL and highlighted the importance of continuing the TGL in force for these commenters. These commenters also included suggestions for improving the TGL's effectiveness.

BIS agrees with these commenters that the TGL has played an important role in the transition away from using Huawei equipment. BIS does not agree with commenters' view that the TGL is the correct authorization to continue with under the EAR. However, BIS has determined that there is one provision of the TGL that should be continued in some format under the EAR.

Twelve of the public comments were submitted by individuals or anonymous commenters. These comments were highly critical of Huawei and its affiliates, the Chinese government, the TGL, and/or the Commerce Department for allowing the TGL to exist. These critical comments are supportive of the determination BIS made to add Huawei and many of its non-affiliates to the Entity List because of being involved with activities that are contrary to U.S. national security and foreign policy interests. These commenters strongly advocated for the immediate removal of the TGL to protect U.S. national security and foreign policy interests.

BIS agrees with these commenters that Huawei and its non-U.S. affiliates on the Entity List are involved in, or pose a significant risk of becoming involved in, activities that are of concern for U.S. national security or foreign policy interests. Therefore, these entities' inclusion on the Entity List is warranted and any type of authorizations that are available should be limited in scope, so as not to undermine U.S. national security and foreign policy interests involving Huawei and its non-U.S. affiliates on the Entity List. BIS does not agree with these commenters that the creation of the TGL undermined U.S. national security or foreign policy concerns. BIS created the TGL as a temporary authorization that is limited in scope to ensure the criteria only authorized exports, reexports, or transfers (in-country) that are consistent with U.S. national security and foreign policy interests. However, as is implicit in the title of Temporary General License, BIS never intended all of the provisions of the TGL to be permanent authorizations. Instead the goal of the TGL was to allow time for companies and persons to shift to other sources of equipment, software and technology (i.e., those not produced by Huawei or one of its listed affiliates).

Commenters submitted potential ways to replace the TGL, including particularly persuasive comments regarding the importance of the cyber security authorization that informed the revisions to the EAR that this rule is implementing.

A commenter noted that the TGL protects consumers and operators from severe disruptions by protecting consumers and operators from cyber risks that would have occurred had the TGL not allowed for the development and provision of security patches and updates and related activities.

Another commenter noted that handsets that lack software patches/updates can expose users to cyber risks and open gaps in wireless ecosystem security. This commenter noted that “such outcomes are largely preventable with appropriate support and run counter to U.S. policy.”

Another commenter noted that cybersecurity concerns require involvement of parties involved in telecommunication systems in order to be effective because security is only as strong as its weakest link. This commenter noted that “participants in the wireless ecosystem—including manufacturers, operating system developers, and wireless network operators—each have a role in addressing security concerns.” The commenter also noted that the “identification of vulnerabilities, creation of software updates or patches, compatibility testing, and release of the updates require collaboration among the various participants, including Huawei.” The commenter further noted that the “ongoing, limited engagement with Huawei to protect the security of equipment and devices in the market benefits American consumers by reducing the risk that they will be subject to device compromise.”

Another commenter noted that cyber security threats will increase if the TGL expires and this will be counter to U.S. interests. This commenter noted that “the ability to update devices is critical to help wireless network operators stay ahead of threats in the current rapidly changing environment.” The commenter also noted that “limited engagement with Huawei to protect the security of devices in the market will continue to benefit American and global consumers.” This commenter further noted that “in contrast, the inability to develop, manage, and supply security updates to the millions of customers who have purchased Huawei devices—both in the United States and around the world—would create an enormous gap in security.”

Companies and trade associations described significant harm that would occur if the TGL is not extended both to them and to their customers, including consumers in the United States, particularly in rural areas.

BIS is mindful of not unduly creating harm with the expiration of the TGL. The conforming changes made to the entries for Huawei and its non-U.S. affiliates on the Entity List regarding cybersecurity will help to mitigate the concerns regarding the removal of the TGL and further protect U.S. national security and foreign policy interests.

Companies detailed what would be required for their organization or industry to cease using Huawei equipment. Time and money were common themes, emphasizing that continued short-term reliance on Huawei for maintaining existing systems in the U.S. will be required. While most commenters supported the goal of removing Huawei equipment from U.S. networks, also they stated that the TGL needs to continue for a longer transition period.

Comments also highlighted the importance of adopting a coordinated U.S. Government approach to address the concern with Huawei and its non-U.S. affiliates, in particular the need for coordination between the Federal Communications Commission (FCC) and BIS. BIS agrees that an all of government approach is needed to address this U.S. national security and foreign policy concern. BIS has been coordinating with the FCC on addressing the concerns with Huawei and its non-U.S. affiliates on the Entity List, as well as other parties that may be of concern for U.S. networks. In November of 2019, the FCC prohibited use of the Universal Service Fund to procure and support Huawei (and ZTE) equipment in the U.S. (January 3, 2020 (85 FR 230). This was formalized by a June 30, 2020 publication identifying those companies as a national security threat. While legislation authorizing $1,000,000,000 to rural carriers to remove and replace Huawei and ZTE equipment was passed in February, the technical process of doing so is challenging. According to some commenters, such as the U.S. Rural Wireless Association, Huawei equipment is in operation in as much as a quarter of U.S. rural carriers. Carriers themselves advocate avoiding potential gaps in service by letting older, slower systems be replaced as part of normal commercial replacement cycles.

Commenters provided suggestions, if the TGL were to be extended, of what potential revisions to enhance its effectiveness for both covered transactions and transactions outside of the scope of the TGL. Many commenters suggested making the TGL permanent or at least effective for a longer period (anywhere from 3-18 months). Commenters who requested the TGL be made permanent emphasized that BIS should specify that the TGL could be revoked at any time. Commenters thought making the TGL permanent would be one of the biggest improvements, from a burden and planning standpoint, that could be made to the TGL.

BIS agrees that continuing with short term extensions of the TGL creates unneeded burdens on industry and the U.S. Government. Because of the time that has passed since the TGL was added to the EAR and BIS's knowledge of its use, as well the public comments received in response to the March 12, 2020 Notice of Inquiry, BIS has determined what types of modifications should be made to the Entity List license requirements for Huawei and its non-U.S. affiliates on the Entity List to continue one provision of the TGL, which will be permanent, to support U.S. national security interests.

Commenters also requested certain changes to the authorizations under paragraph (c). For the existing authorizations under paragraph (c)(1) and (c)(2), some commenters requested moving away from the May 16, 2019 limitation to allow for more recent equipment to also be authorized. However, doing so would counter the TGL's objective of providing time for companies and individuals to identify alternatives to Huawei for future operations. Commenters also suggested other new authorizations that they thought may be warranted to add to the TGL, such as allowing for the use of License Exception TSU. Eliminating the certification statement under paragraph (d) was another suggested change.

BIS does not agree that these new changes should be made to the TGL except as reflected in this rule.

BIS received quite a few comments requesting that BIS add back a TGL authorization for standards organizations. These comments were well supported and highlighted the larger national security and economic objectives stated by the U.S. Government, that industry and others be able to participate in and develop and influence international standards. Commenters on the standards issue included suggestions for ways that the new authorization could be expanded to ensure it achieves the objectives of facilitating such participation.

BIS believes that the comments regarding standards organizations were sufficiently addressed with the publication of the June 18, 2020 interim final rule and request for comments, Release of “Technology” to Certain Entities on the Entity List in the Context of Standards Organizations (85 FR 36719). This rule is open for public comment until August 17, 2020.

Almost every business and trade association commenter mentioned concerns over COVID-19 and the stresses that is putting on telecommunication networks, as well as the bottom lines of businesses. These commenters requested the Commerce Department to take these COVID-19 considerations into account when looking at the TGL. In particular, commenters urged not creating any additional instability for U.S. companies that are already dealing with significant service and business challenges because of COVID-19.

BIS is mindful of the current economic concerns that business is facing as a result of COVID-19. The removal of the TGL and replacing with a permanent provision, where warranted, will help to address the uncertainty of relying on short term extensions of the TGL.

Expiration of the TGL

At this time, the U.S. Government has decided to allow the TGL to expire. In order to implement this U.S. Government decision, this final rule removes supplement no. 7 to part 744. The final rule also amends § 762.2 by removing paragraph (b)(55) because it is no longer needed with the removal of the TGL and makes conforming changes to paragraphs (b)(53) and (54) to reflect that this section will no longer have a paragraph (b)(55). Note that the TGL Certification Statements and logs or other records, including any additional support documentation used to substantiate the certification statement related to the use of the TGL are still subject to recordkeeping or other applicable EAR requirements (see, e.g., § 762.1 of the EAR).

This final rule revises the Entity List by adding a new footnote 2 and revising the License Requirement column for the entries for Huawei and non-U.S. affiliates on the Entity List to add a reference to the new footnote 2. This new footnote 2 implements a modification of the Entity List license requirements for Huawei and its non-U.S. affiliates on the Entity List when the criteria of footnote 2 are met for an export, reexport, or transfer (in-country) that is “subject to the EAR.” The criteria of new footnote 2 is based on the same criteria from the temporary general license authorization under the paragraph (c)(3) (Cybersecurity research and vulnerability disclosure) authorization, which BIS is allowing to expire with the TGL. BIS determined that, after reviewing the comments, this one authorization of the TGL warranted being preserved under another part of the EAR. The addition of new footnote 2 is partially responsive to those commenters that requested the authorizations under the TGL be made permanent. New footnote 2 will further U.S. national security by ensuring that exports, reexports, or transfers (in-country) involving cybersecurity research and vulnerability disclosure are not hindered by the Entity List license requirements for Huawei and its non-U.S. affiliates on the Entity List.

BIS determined after careful review of the comments and consideration of the U.S. national security and foreign policy interests at stake that the remaining two authorizations from the TGL under paragraph (c)(1) (Continued operation of existing networks and equipment) and (c)(2) (Support to existing `personal consumer electronic devices' and `Customer Premises Equipment (CPE)') no longer warrant being included in the EAR and should be allowed to expire, along with the other provisions from the TGL.

C. Changes to the Foreign Produced Direct Product Rule

On May 19, 2020, BIS published in the Federal Register an interim final rule entitled “Amendments to General Prohibition Three (Foreign-Produced Direct Product Rule) and the Entity List” (85 FR 29849), which was effective on May 15, 2020, (hereinafter the “May 15 rule”). Through footnote 1 to the Entity List, the May 15 rule added to General Prohibition Three, § 736.2(b)(3) of the EAR, a foreign-produced direct product rule that is connected to specified entities listed on the Entity List (supplement no. 4 to part 744 of the EAR), i.e., Huawei and its non-U.S. affiliates on the Entity List.

The comment period ended on July 14, 2020. BIS received eleven comments, including one non-responsive comment and one business confidential comment (not posted to regulations.gov). BIS posted nine comments to http://regulations.gov.

1. Response to Comments Regarding the Foreign-Produced Direct Product Rule Interim Final Rule

BIS received a few comments on the May 15 rule that raised concerns about ways it could allow Huawei to continue to procure certain foreign-produced items that are the direct product of certain U.S. technology or software. In response, BIS revises the Foreign-Produced Direct Product rule to impose a license requirement on any foreign-produced items that are: the direct product of certain U.S. technology or software or produced by any plant or major component of a plant that is located outside the United States, when the plant or major component of a plant itself is a direct product of certain U.S.-origin technology or software; when the foreign-produced item will be incorporated into, or will be used in the “production” or “development” of any “part,” “component,” or “equipment” produced, purchased, or ordered by Huawei or its listed non-U.S. affiliates; or Huawei or its listed non-U.S. affiliates is a party to any transaction involving the foreign-produced item, e.g., as a “purchaser,” “intermediate consignee,” “ultimate consignee,” or “end-user.”

BIS received one request to extend the savings clause to six months from the effective date, i.e., November 15, 2020, to accommodate a more realistic production cycle. BIS had worked with many producers to determine the appropriate length of time needed for the savings clause in the May 15 rule. As no other producers have requested an extension of the savings clause, BIS rejects this recommendation.

BIS received a few questions regarding the application of the rule to situations. Since the publication of the May 15 rule, BIS has revised and posted the Direct Product Rule Guidelines on the BIS website at https://bis.doc.gov/index.php/licensing/reexports-and-offshore-transactions/direct-public-guidelines. BIS will update these guidelines to reflect the revisions made in this rule which should help the public navigate this rule. If there are additional questions, they may be submitted to BIS at RPD2@bis.doc.gov in an advisory opinion request consistent with § 748.3(c) of the EAR.

BIS received some comments stating concerns about complying with the new rule. The commenters pointed out that the production line of these items may be long and complex. They asked, “How can we possibly delve that deeply into the supply chains and design chains of our customers and suppliers?” This rule answers that question by imposing a license requirement on certain software or technology that is the direct product of certain software or technology subject to the EAR and certain items that are the direct product of major equipment subject to the EAR when the foreign-produced item will be incorporated into, or will be used in the “production” or “development” of any “part,” “component,” or “equipment” produced, purchased, or ordered by Huawei or its listed non-U.S. affiliates; or Huawei or its listed non-U.S. affiliates is a party to any transaction involving the foreign-produced item, e.g., as a “purchaser,” “intermediate consignee,” “ultimate consignee,” or “end-user.” The EAR's definition of “knowledge” and BIS's Know Your Customer guidance provide direction on the scope of due diligence warranted.

Another commenter stated that, “In the semiconductor industry, most items are rarely completely produced or developed by one entity. There is a significant amount of joint development and technology intermingling that occurs to produce or develop an item. In applying other aspects of EAR jurisdiction over foreign products, BIS disregards inputs that fall below specified de minimis thresholds.”

Two recommendations offered by the commenter for the multi-party design issue were to revise the rule: “one stating items not wholly or primarily produced or developed by a designated entity be excluded from the definition”; and “state items that merely have input as to their requirements or specifications from designated entities are not items `developed' by such designated entity.”

BIS has resolved the issue about designs not wholly produced or developed by a designated entity by removing paragraph (b)(2) of footnote 1 to supplement no. 4 of part 744 and removing “produced or developed by any entity with a footnote 1 designation in the license requirement column of this Supplement” from paragraph (a) of footnote 1. The control is now based on whether the foreign-produced item is the direct product of specified “technology” or “software” subject to the EAR and is either a specified ECCN or produced by any plant or major component of a plant that is located outside the United States, when the plant or major component of a plant itself is a direct product of U.S.-origin “technology” or “software,” and when the foreign-produced item will be incorporated into, or will be used in the “production” or “development” of any “part,” “component,” or “equipment” produced, purchased, or ordered by Huawei or its listed non-U.S. affiliates; or when Huawei or its listed non-U.S. affiliates is a party to any transaction involving the foreign-produced item, e.g., as a “purchaser,” “intermediate consignee,” “ultimate consignee,” or “end-user.”

One commenter noted that General Prohibition Three is dependent on the “traditional” foreign-produced direct product rule, specifically the letter of assurance criteria. BIS agrees the “traditional” foreign-produced direct product rule contains a letter of assurance criterion and is reviewing this issue. The commenter also posed the question, “does it matter whether the plant was made in the U.S. or a foreign country . . .?” The May 15 rule amended § 732.3(f) to specifically state that the foreign-produced direct product rule applies if the plant or major component of a plant is a direct product of U.S.-origin “technology” or “software” subject to the EAR, whether produced in the United States (U.S.-origin) or a foreign country.

One association recommended that BIS modify the scope of the May 15 rule to exclude items of older technologies, such as equipment that relies on technology several generations behind the current state-of-the-art that have been available in the market since 2011 or before. The association recommended a technological cut-off for “analog and mixed-signal products used in applications such as radio frequency (RF) (e.g., power amplifiers and switches) and signal conversion products using older and much less dense nodes such as 28nm, 65nm and 130nm, which are much less critical from a security point of view.” The U.S. Government had considered establishing a technology parameter prior to implementation of the May 15 rule and determined it necessary that the U.S. Government review all transactions to determine whether they present a national security or foreign policy concern, consistent with controls on U.S.-origin items pursuant to the Entity List action. To maintain a consistent scope of controls for all items subject to the EAR, BIS rejects this comment.

One commenter suggested that the term “essential” in paragraph (b) requires a definition. Because the definition of production applies to “all production stages, such as: Product engineering, manufacture, integration, assembly (mounting), inspection, testing, [and] quality assurance”, any equipment subject to the Export Control Classification Numbers specified in footnote 1 of supplement no. 4 to part 744 of the EAR that is involved in any of the production stages is considered essential.

One commenter stated, “If the goal of the new rule is to inhibit a designated entity from designing its own semiconductors for use in the global telecommunications infrastructure or other contexts, then BIS should support the substitution of U.S.-origin items, based on trusted designs, in their place. In light of this, we respectfully request BIS to confirm it will grant licenses to companies in the U.S. to export otherwise nonsensitive items (such as 3x991, 5x992, and EAR99 items) for which there is clear foreign availability.” The license review policy for the export, reexport, or transfer (in-country) of all items subject to the EAR involving footnote 1 designated entities is a presumption of denial. By amending paragraph (a) of footnote 1 to supplement no. 4 of part 744 to apply controls to only specified U.S. “technology” or “software,” and removing paragraph (b)(2) of this same footnote, these foreign-produced items are subject to the same license review policy as U.S.-origin items, and the U.S. Government intends to insure comparable regulatory treatment for U.S.-origin items and foreign-produced items in the context of the Entity List.

2. General Prohibition Three—Foreign-Produced Direct Product Rule—Applicability of General Prohibition Three to Huawei and Its Non-U.S. Affiliates on the Entity List

In response to public comments received on the May 15 rule, in this rule, BIS is amending the Foreign-Produced Direct Product Rule to expand and clarify what foreign-produced items are subject to the EAR and require a license for reexport, export from abroad, or transfer (in-country).

Specifically, this rule amends § 736.2(b)(3)(vi) of General Prohibition Three (Foreign-Produced Direct Product Rule) to prohibit the reexport, export from abroad, or transfer (in-country) without a license, of certain foreign-produced items when the foreign-produced item will be incorporated into, or will be used in the “production” or “development” of any “part,” “component,” or “equipment” produced, purchased, or ordered by an entity listed on the Entity List (supplement no. 4 to part 744 of the EAR) that is designated by a footnote 1; or if the footnote 1 designated entity is a party to any transaction involving the foreign-produced item, e.g., as a “purchaser,” “intermediate consignee,” “ultimate consignee,” or “end-user.” This revision promotes U.S. national security by further controlling the design and production of items outside the United States using items subject to the EAR for entities that pose a significant risk of involvement in activities contrary to the national security or foreign policy interests of the United States.

This rule modifies footnote 1 to supplement no. 4 to part 744 of the EAR (Entity List) by replacing the phrase “when there is “knowledge” that the foreign-produced item is destined to any entity with a footnote 1 designation in the license requirement column of this supplement” with the phrase “when there is “knowledge” that the foreign-produced item will be incorporated into, or will be used in the “production” or “development” of any “part,” “component,” or “equipment” produced, purchased, or ordered by any entity with a footnote 1 designation in the license requirement column of this supplement; or any entity with a footnote 1 designation in the license requirement column of this supplement is a party to any transaction involving the foreign-produced item, e.g., as a “purchaser,” “intermediate consignee,” “ultimate consignee,” or “end-user,”” which is consistent with revisions to § 744.11 published on August 17, 2020. This replacement is in response to public comments identifying ways Huawei and its non-U.S. affiliates on the Entity List may be procuring items not subject to the EAR that are the direct product of specified U.S. technology or software and, in so doing, creating an uneven playing field for persons whose comparable items are subject to the EAR.

This rule also adds a note to the introductory paragraph of footnote 1, which provides an additional license review policy than that set forth in the license requirement column of the Entity List to align with U.S. Government policy. The license review policy set forth in the note is “[s]ophistication and capabilities of technology in items is a factor in license application review; license applications for foreign-produced items controlled by this footnote that are capable of supporting the “development” or “production” of telecom systems, equipment and devices at only below the 5G level (e.g., 4G, 3G, etc.) will be reviewed on a case-by-case basis.” All other license applications will be reviewed using the license review policy in the license requirement column of the Entity List for each designated entity, which is presumption of denial.

This rule also amends paragraph (a) of footnote 1 to the Entity List by removing “produced or developed by or for any entity with a footnote 1 designation in the license requirement column of this supplement and is”. The effect of removing this phrase is that the control applies to any foreign-produced item when the foreign-produced item will be incorporated into, or will be used in the “production” or “development” of any “part,” “component,” or “equipment” produced, purchased, or ordered by Huawei or its listed non-U.S. affiliates; or Huawei or its listed non-U.S. affiliates is a party to any transaction involving the foreign-produced item, e.g., as a “purchaser,” “intermediate consignee,” “ultimate consignee,” or “end-user” and the foreign item is a direct product of “technology” or “software” subject to the EAR in one of the specified ECCNs. This revision addresses, for example, efforts by entities with a footnote 1 designation in the license requirement column of the Entity List to leverage a foundry's semiconductor design rules produced from U.S. “technology” or “software” to support the manufacture of indigenous chipsets previously not subject to the EAR.

In addition, this rule removes paragraph (b)(2) from footnote 1 to the Entity List, i.e., as a “a direct product of `software' or `technology' produced or developed by an entity with a footnote 1 designation in the license requirement column of the Entity List.” The effect of removing this paragraph is that paragraph (b) now applies when the foreign-produced item will be incorporated into, or will be used in the “production” or “development” of any “part,” “component,” or “equipment” produced, purchased, or ordered by Huawei or its listed non-U.S. affiliates; or Huawei or its listed non-U.S. affiliates is a party to any transaction involving the foreign-produced item, e.g., as a “purchaser,” “intermediate consignee,” “ultimate consignee,” or “end-user” and the foreign-produced item is being produced, no matter from whose design, by a plant or major component of a plant that is a direct product of specified U.S.-origin “technology” or “software” subject to the EAR. This revision addresses the public comments regarding the difficulty in determining if the product was the result of a design of a designated entity, as many products have multiple design inputs at various stages.

This rule also adds to paragraph (b), “whether made in the U.S. or a foreign country” to modify the plant or major component of a plant and “subject to the EAR” to modify U.S-origin technology or software, which makes this paragraph consistent with § 732.3(f) of the EAR. This is to clarify that paragraph (b) applies whether the plant or major component is made in a foreign country or the United States and made from specified U.S.-origin “technology” or “software” that is subject to the EAR.

Lastly, this rule adds a second Note to paragraph (b) that clarifies that any foreign-produced wafer, is controlled by this rule, whether finished or unfinished.

Savings Clause

For the Entity List and TGL changes described in this rule, shipments of items removed from eligibility for a license exception or export, reexport or transfer (in-country) without a license (NLR) as a result of this regulatory action that were en route aboard a carrier to a port of export, reexport, or transfer (in-country), on August 17, 2020, pursuant to actual orders for export or reexport to a foreign destination, may proceed to that destination under the previous eligibility for a license exception or export, reexport or transfer (in-country) without a license (NLR).

For the Foreign-Produced Direct Product Rule changes described in this rule, shipments of foreign-produced items identified in paragraph (a) to footnote 1 in supplement no. 4 of part 744 of the EAR that are subject to § 736.2(b)(3)(vi) and now require a license pursuant to this rule that were on dock for loading, on lighter, laden aboard an exporting or transferring carrier, or en route aboard a carrier to a port of export or to the consignee/end-user, on August 17, 2020, pursuant to actual orders for exports, reexports, and transfers (in-country) to a foreign destination or to the consignee/end-user, may proceed to that destination under the previous license exception eligibility or without a license. Shipments of foreign-produced items identified in paragraph (b) to footnote 1 in supplement no. 4 of part 744 of the EAR that are subject to § 736.2(b)(3)(vi) and started “production” prior to August 17, 2020, are not subject to § 736.2(b)(3)(vi) of the EAR and may proceed as not being subject to the EAR, if applicable, or under the previous license exception eligibility or without a license so long as they have been exported, reexported, or transferred (in-country) on or before September 14, 2020. Any such items not exported from abroad, reexported, or transferred (in-country) before midnight (local time) on September 14, 2020, will be subject to § 736.2(b)(3)(vi) of the EAR and require a license in accordance with this interim final rule and other provisions of the EAR.

Export Control Reform Act of 2018

On August 13, 2018, the President signed into law the John S. McCain National Defense Authorization Act for Fiscal Year 2019, which included the Export Control Reform Act of 2018 (ECRA), 50 U.S.C. Sections 4801-4852. ECRA provides the legal basis for BIS's principal authorities and serves as the authority under which BIS issues this rule.

Rulemaking Requirements

1. Executive Orders 13563 and 12866 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This final rule has been designated a “significant regulatory action,” although not economically significant, under section 3(f) of Executive Order 12866. Although this rule is a significant regulatory action, it is a regulation where the analysis demonstrates that the primary, direct benefit is national security and is, thus, exempt from the provisions of Executive Order 13771.

2. Notwithstanding any other provision of law, no person is required to respond to or be subject to a penalty for failure to comply with a collection of information, subject to the requirements of the Paperwork Reduction Act of 1995 (44 U.S.C. 3501 et seq.) (PRA), unless that collection of information displays a currently valid Office of Management and Budget (OMB) Control Number. This final regulation involves a collection currently approved by OMB under BIS control number 0694-0088, Simplified Network Application Processing System which includes, among other things, license applications, and carries a burden estimate of 42.5 minutes for a manual or electronic submission for a total burden estimate of 31,878 hours. Total burden hours associated with the PRA and OMB control number 0694-0088 are expected to minimally increase and have a limited impact on the existing estimates as a result of this rule. Any comments regarding the collection of information associated with this rule, including suggestions for reducing the burden, may be sent to Jasmeet K. Seehra, Office of Management and Budget (OMB), by email to Jasmeet_K._Seehra@omb.eop.gov, or online at https://www.reginfo.gov/public/do/PRAMain.

3. This rule does not contain policies with Federalism implications as that term is defined in Executive Order 13132.

4. Pursuant to section 1762 of ECRA, this action is exempt from the Administrative Procedure Act (5 U.S.C. 553) requirements, including prior notice and the opportunity for public comment.

5. Because a notice of proposed rulemaking and an opportunity for public comment are not required to be given for this rule by 5 U.S.C. 553, or by any other law, the analytical requirements of the Regulatory Flexibility Act, 5 U.S.C. 601, et seq., are not applicable. Accordingly, no regulatory flexibility analysis is required, and none has been prepared.

List of Subjects

15 CFR Part 736

General Prohibitions.

15 CFR Part 744

Exports, Reporting and recordkeeping requirements, Terrorism.

15 CFR Part 762

Administrative practice and procedure, Business and industry, Confidential business information, Exports, Reporting and recordkeeping requirements.

Accordingly, parts 736, 744 and 762 of the Export Administration Regulations (15 CFR parts 730 through 774) are amended as follows:

PART 736—[AMENDED]

1. The authority citation for part 736 is revised to read as follows:

Authority: 50 U.S.C. 4801-4852; 50 U.S.C. 4601 et seq.; 50 U.S.C. 1701 et seq.; E.O. 12938, 59 FR 59099, 3 CFR, 1994 Comp., p. 950; E.O. 13020, 61 FR 54079, 3 CFR, 1996 Comp., p. 219; E.O. 13026, 61 FR 58767, 3 CFR, 1996 Comp., p. 228; E.O. 13222, 66 FR 44025, 3 CFR, 2001 Comp., p. 783; E.O. 13338, 69 FR 26751, 3 CFR, 2004 Comp., p. 168; Notice of November 12, 2019, 84 FR 61817; Notice of May 7, 2020, 85 FR 27639.

2. Section 736.2 is amended by revising paragraph (b)(3)(vi), to read as follows:

§ 736.2 General prohibitions and determination of applicability.

* * * * *

(b) * * *

(3) * * *

(vi) Criteria for prohibition relating to parties on Entity List. You may not reexport, export from abroad, or transfer (in-country) without a license or license exception any foreign-produced item controlled under footnote 1 of supplement no. 4 to part 744 (“Entity List”) when there is “knowledge” that:

(A) The foreign-produced item will be incorporated into, or will be used in the “production” or “development” of any “part,” “component,” or “equipment” produced, purchased, or ordered by any entity with a footnote 1 designation in the license requirement column of this supplement; or

(B) Any entity with a footnote 1 designation in the license requirement column of this supplement is a party to any transaction involving the foreign-produced item, e.g., as a “purchaser,” “intermediate consignee,” “ultimate consignee,” or “end-user.”

* * * * *

PART 744—[AMENDED]

3. The authority citation for 15 CFR part 744 is revised to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of September 19, 2019, 84 FR 49633; Notice of November 12, 2019, 84 FR 61817.

4. Supplement No. 4 to part 744 is amended:

a. Under ARGENTINA,

i. By adding, in alphabetical order the entity “Huawei Cloud Argentina,” and

ii. By revising the entity “Huawei Tech Investment Co., Ltd. Argentina”;

b. By revising the Australia entity “Huawei Technologies (Australia) Pty Ltd.”;

c. By revising the Bahrain entity “Huawei Technologies Bahrain”;

d. By revising the Belarus entity “Bel Huawei Technologies LLC”;

e. By revising the Belgium entity “Huawei Technologies Research & Development Belgium NV”;

f. By revising the Bolivia entity “Huawei Technologies (Bolivia) S.R.L.”;

g. Under BRAZIL,

i. By adding, in alphabetical order the entity “Huawei Cloud Brazil,” and

ii. By revising the entity “Huawei do Brasil Telecomunicacões Ltda”;

h. By revising the Burma entity “Huawei Technologies (Yangon) Co., Ltd.”;

i. By revising the Canada entity “Huawei Technologies Canada Co., Ltd”;

j. Under CHILE,

i. By revising the entity “Huawei Chile S.A.”; and

ii. By adding, in alphabetical order the entity “Huawei Cloud Chile”;

k. Under CHINA, PEOPLE'S REPUBLIC OF,

i. By revising the entities “Beijing Huawei Digital Technologies Co., Ltd.,” “Chengdu Huawei High-Tech Investment Co., Ltd.,” “Chengdu Huawei Technologies Co., Ltd.,” “Dongguan Huawei Service Co., Ltd.,” “Dongguan Lvyuan Industry Investment Co., Ltd.,” “Gui'an New District Huawei Investment Co., Ltd.,” “Hangzhou Huawei Digital Technology Co., Ltd.,” “HiSilicon Optoelectronics Co., Ltd.,” “HiSilicon Technologies Co., Ltd (HiSilicon),” “HiSilicon Tech (Suzhou) Co., Ltd.,” “Huawei Device Co., Ltd.,” “Huawei Device (Dongguan) Co., Ltd.,” “Huawei Device (Shenzhen) Co., Ltd.,” “Huawei Machine Co., Ltd.,” “Huawei Software Technologies Co., Ltd.,” “Huawei Technical Service Co., Ltd.,” “Huawei Technologies Co., Ltd.,” “Huawei Technologies Service Co., Ltd.,” “Huawei Training (Dongguan) Co., Ltd.,” “Huayi internet Information Service Co., Ltd.,” “Hui Tong Business Ltd.,” “North Huawei Communication Technology Co., Ltd.,” “Shanghai Haisi Technology Co., Ltd.,” “Shanghai HiSilicon Technologies Co., Ltd.,” “Shanghai Mossel Trade Co., Ltd.,” “Shenzhen HiSilicon Technologies Co., Electrical Research Center,” “Shenzhen Huawei Technical Services Co., Ltd.,” “Shenzhen Huawei Terminal Commercial Co., Ltd.,” “Shenzhen Huawei Training School Co., Ltd.,” “Shenzhen Huayi Loan Small Loan Co., Ltd.,” “Shenzhen Legrit Technology Co., Ltd.,” “Shenzhen Smartcom Business Co., Ltd.,” “Suzhou Huawei Investment Co., Ltd.,” “Wuhan Huawei Investment Co., Ltd.,” “Xi'an Huawei Technologies Co., Ltd.,” and “Xi'an Ruixin Investment Co., Ltd.,” and

ii. By adding, in alphabetical order, the entities “Huawei Cloud Computing Technology,” “Huawei Cloud Beijing,” “Huawei Cloud Dalian,” “Huawei Cloud Guangzhou,” “Huawei Cloud Guiyang,” “Huawei Cloud Hong Kong,” “Huawei Cloud Shanghai,” “Huawei Cloud Shenzhen,” “Huawei OpenLab Suzhou,” and “Wulanchabu Huawei Cloud Computing Technology”;

l. By revising the Costa Rica entity “Huawei Technologies Costa Rica SA”;

m. By revising the Cuba entity “Huawei Cuba”;

n. By revising the Denmark entity “Huawei Denmark”;

o. Under EGYPT,

i. By adding, in alphabetical order, the entity “Huawei OpenLab Cairo,” and

ii. By revising the entity “Huawei Technology”;

p. Under FRANCE,

i. By adding, in alphabetical order, the entities “Huawei Cloud France,” and “Huawei OpenLab Paris,” and

ii. By revising the entity “Huawei France”;

q. Under GERMANY,

i. By adding in alphabetical order, the entities “Huawei Cloud Berlin,” “Huawei OpenLab Munich,” and “Huawei Technologies Dusseldorf GmbH,” and

ii. By revising the entity “Huawei Technologies Deutschland GmbH”;

r. Under HONG KONG,

i. By adding, in alphabetical order, the entity “Huawei Cloud Hong Kong,” and

ii. By revising the entities “Huawei Device (Hong Kong) Co., Limited,” “Huawei International Co., Limited,” “Huawei Tech. Investment Co., Limited,” “Huawei Technologies Co. Ltd.” “Hua Ying Management Co. Limited,” and “Smartcom (Hong Kong) Co., Limited”;

s. Under INDIA,

i. By adding, in alphabetical order, the entity “Huawei OpenLab Delhi,” and

ii. By revising the entity “Huawei Technologies India Private Limited”;

t. By revising the Indonesia entity “Huawei Tech Investment, PT”;

u. By adding, in alphabetical order, the Israel entity “Toga Networks”;

v. By revising the Italy entities “Huawei Italia,” and “Huawei Milan Research Institute”;

w. By revising the Jamaica entity “Huawei Technologies Jamaica Company Limited”;

x. By revising the Japan entity “Huawei Technologies Japan K.K.”;

y. By revising the Jordan entity “Huawei Technologies Investment Co. Ltd.”;

z. By revising the Kazakhstan entity “Huawei Technologies LLC Kazakhstan”;

aa. By revising the Lebanon entity “Huawei Technologies Lebanon”;

bb. By revising the Madagascar entity “Huawei Technologies Madagascar Sarl”;

cc. Under MEXICO,

i. By adding, in alphabetical order, the entities “Huawei Cloud Mexico,” and “Huawei OpenLab Mexico City,” and

ii. By revising the entity “Huawei Technologies De Mexico S.A.”;

dd. By adding, in alphabetical order, an entry for MOROCCO;

ee. Under the NETHERLANDS,

i. By adding, in alphabetical order, the entity “Huawei Cloud Netherlands,” and

ii. By revising the entity “Huawei Technologies Coöperatief U.A.”;

ff. By revising the New Zealand entity “Huawei Technologies (New Zealand) Company Limited”;

gg. By revising the Oman entity “Huawei Tech Investment Oman LLC”;

hh. By revising the Pakistan entity “Huawei Technologies Pakistan (Private) Limited”;

ii. By revising the Panama entity “Huawei Technologies Cr Panama S.A”;

jj. By revising the Paraguay entity “Huawei Technologies Paraguay S.A.”;

kk. By adding, in alphabetical order, an entry for PERU;

ll. By revising the Portugal entity “Huawei Technology Portugal”;

mm. By revising the Qatar entity “Huawei Tech Investment Limited”;

nn. By revising the Romania entity “Huawei Technologies Romania Co., Ltd.”;

oo. Under RUSSIA,

i. By adding, in alphabetical order, the entities “Huawei Cloud Russia,” and “Huawei OpenLab Moscow,” and

ii. By revising the entity “Huawei Russia”;

pp. Under SINGAPORE,

i. By adding, in alphabetical order, the entities “Huawei Cloud Singapore,” and “Huawei OpenLab Singapore,” and

ii. By revising the entity “Huawei International Pte. Ltd.”;

qq. Under SOUTH AFRICA,

i. By adding, in alphabetical order, the entities “Huawei Cloud South Africa,” and “Huawei OpenLab Johannesburg,” and

ii. By revising the entity “Huawei Technologies South Africa Pty Ltd.”;

rr. By revising the Sri Lanka entity “Huawei Technologies Lanka Company (Private) Limited”;

ss. By revising the Sweden entity “Huawei Sweden”;

tt. Under SWITZERLAND,

i. By adding in alphabetical order, the entity “Huawei Cloud Switzerland,” and

ii. By revising the entity “Huawei Technologies Switzerland AG”;

uu. By revising the Taiwan entity “Xunwei Technologies Co., Ltd.”;

vv. Under THAILAND,

i. By adding, in alphabetical order, the entities “Huawei Cloud Thailand,” and “Huawei OpenLab Bangkok;” and

ii. By revising the entity “Huawei Technologies (Thailand) Co.”;

ww. By adding in alphabetical order, the Turkey entity, “Huawei OpenLab Istanbul”;

xx. By adding in alphabetical order, the United Arab Emirates entity “Huawei OpenLab Dubai”;

yy. Under UNITED KINGDOM,

i. By revising the entities “Centre for Integrated Photonics Ltd.,” “Huawei Global Finance (UK) Limited,” “Huawei Technologies (UK) Co., Ltd.,” “Proven Glory,” and “Proven Honour,” and

ii. By adding, in alphabetical order, the entity “Huawei Technologies R&D UK”;

zz. By revising the Vietnam entities “Huawei Technologies (Vietnam) Company Limited” and “Huawei Technology Co. Ltd.”;

aaa. By revising footnote 1; and

bbb. By adding footnote 2.

The additions and revisions read as follows:

Supplement No. 4 to Part 744—Entity List

* * * * *

Country | Entity | License requirement | License review policy | Federal Register Citation
* * * * * * *
ARGENTINA | Huawei Cloud Argentina, Buenos Aires, Argentina. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 85 FR [INSERT FR PAGE NUMBER]; 8/20/20.
| Huawei Tech Investment Co., Ltd. Argentina, Av. Leandro N. Alem 815, C1054 CABA, Argentina. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 43495, 8/21/19. 85 FR 29852, 5/19/20. 85 FR 36720, 6/18/20. 85 FR [INSERT FR PAGE NUMBER]; 8/20/20.
* * * * * * *
AUSTRALIA | Huawei Technologies (Australia) Pty Ltd., L6 799 Pacific Hwy, Chatswood, New South Wales, 2067, Australia. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 43495, 8/21/19. 85 FR 29852, 5/19/20. 85 FR 36720, 6/18/20. 85 FR [INSERT FR PAGE NUMBER]; 8/20/20.
* * * * * * *
BAHRAIN | Huawei Technologies Bahrain, Building 647 2811 Road 2811, Block 428, Muharraq, Bahrain. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 43495, 8/21/19. 85 FR 29852, 5/19/20. 85 FR 36720, 6/18/20. 85 FR [INSERT FR PAGE NUMBER]; 8/20/20.
| * * * * * *
BELARUS | Bel Huawei Technologies LLC, a.k.a., the following one alias: —BellHuawei Technologies LLC. 5 Dzerzhinsky Ave., Minsk, 220036, Belarus. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 43495, 8/21/19. 85 FR 29852, 5/19/20. 85 FR 36720, 6/18/20. 85 FR [INSERT FR PAGE NUMBER]; 8/20/20.
| * * * * * *
BELGIUM | Huawei Technologies Research & Development Belgium NV, Technologiepark 19, 9052 Zwijnaarde Belgium. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 84 FR 43495, 8/21/19. 85 FR 29852, 5/19/20. 85 FR 36720, 6/18/20. 85 FR [INSERT FR PAGE NUMBER]; 8/20/20.
| * * * * * *
* * * * * * *
BOLIVIA | Huawei Technologies (Bolivia) S.R.L., La Paz, Bolivia. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29852, 5/19/20. 85 FR 36720, 6/18/20. 85 FR [INSERT FR PAGE NUMBER]; 8/20/20.
BRAZIL | Huawei Cloud Brazil, Sau Paulo, Brazil. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 85 FR [INSERT FR PAGE NUMBER]; 8/20/20.
| Huawei do Brasil Telecomunicacões Ltda, Sao Paulo, Brazil; and Av. Jerome Case, 2600, Sorocaba—SP, 18087-220, Brazil. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 84 FR 43495, 8/21/19. 85 FR 29852, 5/19/20. 85 FR 36720, 6/18/20. 85 FR [INSERT FR PAGE NUMBER]; 8/20/20.
* * * * * * *
BURMA | Huawei Technologies (Yangon) Co., Ltd., Yangon, Burma. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29852, 5/19/20. 85 FR 36720, 6/18/20. 85 FR [INSERT FR PAGE NUMBER]; 8/20/20.
CANADA | * * * * * *
| Huawei Technologies Canada Co., Ltd., Markham, ON, Canada. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29852, 5/19/20. 85 FR 36720, 6/18/20. 85 FR [INSERT FR PAGE NUMBER]; 8/20/20.
| * * * * * *
CHILE | Huawei Chile S.A., Santiago, Chile. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29852, 5/19/20. 85 FR 36720, 6/18/20. 85 FR [INSERT FR PAGE NUMBER]; 8/20/20.
| Huawei Cloud Chile, Santiago, Chile. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 85 FR [INSERT FR PAGE NUMBER]; 8/20/20.
CHINA, PEOPLE'S REPUBLIC OF | * * * * * *
| Beijing Huawei Digital Technologies Co., Ltd., Beijing, China. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29852, 5/19/20. 85 FR 36720, 6/18/20. 85 FR [INSERT FR PAGE NUMBER]; 8/20/20.
| * * * * * *
| Chengdu Huawei High-Tech Investment Co., Ltd., Chengdu, Sichuan, China. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29852, 5/19/20. 85 FR 36720, 6/18/20. 85 FR [INSERT FR PAGE NUMBER]; 8/20/20.
| Chengdu Huawei Technologies Co., Ltd., Chengdu, Sichuan, China. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29852, 5/19/20. 85 FR 36720, 6/18/20. 85 FR [INSERT FR PAGE NUMBER]; 8/20/20.
| * * * * * *
| Dongguan Huawei Service Co., Ltd., Dongguan, Guangdong, China. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29853, 5/19/20. 85 FR 36720, 6/18/20. 85 FR [INSERT FR PAGE NUMBER]; 8/20/20.
| Dongguan Lvyuan Industry Investment Co., Ltd., Dongguan, Guangdong, China. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29853, 5/19/20. 85 FR 36720, 6/18/20. 85 FR [INSERT FR PAGE NUMBER]; 8/20/20.
| * * * * * *
| Gui'an New District Huawei Investment Co., Ltd., Guiyang, Guizhou, China. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29853, 5/19/20. 85 FR 36720, 6/18/20. 85 FR [INSERT FR PAGE NUMBER]; 8/20/20.
| * * * * * *
| Hangzhou Huawei Digital Technology Co., Ltd., Hangzhou, Zhejiang, China. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29853, 5/19/20. 85 FR 36720, 6/18/20. 85 FR [INSERT FR PAGE NUMBER]; 8/20/20.
| * * * * * *
| HiSilicon Optoelectronics Co., Ltd., Wuhan, Hubei, China. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29853, 5/19/20. 85 FR 36720, 6/18/20. 85 FR [INSERT FR PAGE NUMBER]; 8/20/20.
| HiSilicon Technologies Co., Ltd (HiSilicon), Bantian Longgang District, Shenzhen, 518129, China. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29853, 5/19/20. 85 FR 36720, 6/18/20. 85 FR [INSERT FR PAGE NUMBER]; 8/20/20.
| HiSilicon Tech (Suzhou) Co., Ltd., Suzhou, Jiangsu, China. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29853, 5/19/20. 85 FR 36720, 6/18/20. 85 FR [INSERT FR PAGE NUMBER]; 8/20/20.
| Huawei Cloud Computing Technology, Huawei Cloud Data Center, Xinggong Road, Qianzhong Avenue, Gui'an New District, Guizhou Province, China; and Huawei Cloud Data Center, Jiaotianfu Road, Jinma Avenue, Gui'an New District, Guizhou Province, China. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 85 FR [INSERT FR PAGE NUMBER]; 8/20/20.
| Huawei Cloud Beijing, Beijing, China. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 85 FR [INSERT FR PAGE NUMBER]; 8/20/20.
| Huawei Cloud Dalian, Dalian, China. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 85 FR [INSERT FR PAGE NUMBER]; 8/20/20.
| Huawei Cloud Guangzhou, Guangzhou, China. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 85 FR [INSERT FR PAGE NUMBER]; 8/20/20.
| Huawei Cloud Guiyang, Guiyang, China. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 85 FR [INSERT FR PAGE NUMBER]; 8/20/20.
| Huawei Cloud Shanghai, Shanghai, China. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 85 FR [INSERT FR PAGE NUMBER]; 8/20/20.
| Huawei Cloud Shenzhen, Shenzhen, China. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 85 FR [INSERT FR PAGE NUMBER]; 8/20/20.
| Huawei Device Co., Ltd., a.k.a., the following two aliases: —Huawei Device; and —Songshan Lake Southern Factory Dongguan, Guangdong, China and No. 2 Xincheng Avenue, Songshan Lake Road, Dongguan City, Guangdong, China; and Songshan Lake Base, Guangdong, China. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29853, 5/19/20. 85 FR 36720, 6/18/20. 85 FR [INSERT FR PAGE NUMBER]; 8/20/20.
| Huawei Device (Dongguan) Co., Ltd., Dongguan, Guangdong, China. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29853, 5/19/20. 85 FR 36720, 6/18/20. 85 FR [INSERT FR PAGE NUMBER]; 8/20/20.
| Huawei Device (Shenzhen) Co., Ltd., Shenzhen, Guangdong Shenzhen, China; and Building 2, Zone B, Huawei Base, Bantian, Longgang District, Shenzhen, China. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29853, 5/19/20. 85 FR 36720, 6/18/20. 85 FR [INSERT FR PAGE NUMBER]; 8/20/20.
| Huawei Machine Co., Ltd., Dongguan, Guangdong, China. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29853, 5/19/20. 85 FR 36720, 6/18/20. 85 FR [INSERT FR PAGE NUMBER]; 8/20/20.
| Huawei OpenLab Suzhou, a.k.a., the following one alias: —Huawei Suzhou OpenLab. Suzhou, China. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 85 FR [INSERT FR PAGE NUMBER]; 8/20/20.
| Huawei Software Technologies Co., Ltd., Nanjing, Jiangsu, China. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29853, 5/19/20. 85 FR 36720, 6/18/20. 85 FR [INSERT FR PAGE NUMBER]; 8/20/20.
| Huawei Technical Service Co., Ltd., China. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29853, 5/19/20. 85 FR 36720, 6/18/20. 85 FR [INSERT FR PAGE NUMBER]; 8/20/20.
| Huawei Technologies Co., Ltd., a.k.a., the following two aliases: —Shenzhen Huawei Technologies; and —Huawei Technology, and to include the following addresses and the following 22 affiliated entities: | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 84 FR 43495, 8/21/19. 85 FR 29853, 5/19/20. 85 FR 36720, 6/18/20. 85 FR [INSERT FR PAGE NUMBER]; 8/20/20.
| Addresses for Huawei Technologies Co., Ltd.: Bantian Huawei Base, Longgang District, Shenzhen, 518129, China; and No. 1899 Xi Yuan Road, High-Tech West District, Chengdu, 611731; and
| C1, Wuhan Future City, No. 999 Gaoxin Ave., Wuhan, Hebei Province; and Banxuegang Industrial Park, Buji Longgang, Shenzhen, Guangdong, 518129, China; and R&D Center, No. 2222, Golden Bridge Road, Pu Dong District, Shanghai, China; and Zone G, Huawei Base, Bantian, Longgang District, Shenzhen, China.
| Affiliated entities:
| Beijing Huawei Longshine Information Technology Co., Ltd., a.k.a., the following one alias:
| —Beijing Huawei Longshine, to include the following subordinate. Q80-3-25R, 3rd Floor, No. 3, Shangdi Information Road, Haidian District, Beijing, China.
| Hangzhou New Longshine Information Technology Co., Ltd., Room 605, No. 21, Xinba, Xiachang District, Hangzhou, China.
| Hangzhou Huawei Communication Technology Co., Ltd., Building 1, No. 410, Jianghong Road, Changhe Street, Binjiang District, Hangzhou, Zhejiang, China.
| Hangzhou Huawei Enterprises, No. 410 Jianghong Road, Building 1, Hangzhou, China.
| Huawei Digital Technologies (Suzhou) Co., Ltd., No. 328 XINHU STREET, Building A3, Suzhou (Huawei R&D Center, Building A3, Creative Industrial Park, No. 328, Xinghu Street, Suzhou), Suzhou, Jiangsu, China.
| Huawei Marine Networks Co., Ltd., a.k.a., the following one alias:
| —Huawei Marine. Building R4, No. 2 City Avenue, Songshan Lake Science & Tech Industry Park, Dongguan, 523808, and No. 62, Second Ave., 5/F-6/F, TEDA, MSD-B2 Area, Tianjin Economic and Technological Development Zone, Tianjin, 300457, China.
| Huawei Mobile Technology Ltd., Huawei Base, Building 2, District B, Shenzhen, China.
| Huawei Tech. Investment Co., U1 Building, No. 1899 Xiyuan Avenue, West Gaoxin District, Chengdu City, 611731, China.
| Huawei Technology Co., Ltd. Chengdu Research Institute, No. 1899, Xiyuan Ave., Hi-Tech Western District, Chengdu, Sichuan Province, 610041, China.
| Huawei Technology Co., Ltd. Hangzhou Research Institute, No. 410, Jianghong Rd., Building 4, Changhe St., Binjiang District, Hangzhou, Zhejiang Province, 310007, China.
| Huawei Technologies Co., Ltd. Beijing Research Institute, No. 3, Xinxi Rd., Huawei Building, ShangDi Information Industrial Base, Haidian District, Beijing, 100095, China; and No. 18, Muhe Rd., Building 1-4, Haidian District, Beijing, China.
| Huawei Technologies Co., Ltd. Material Characterization Lab, Huawei Base, Bantian, Shenzhen 518129, China.
| Huawei Technologies Co., Ltd. Xi'an Research Institute, National Development Bank Building (Zhicheng Building), No. 2, Gaoxin 1st Road, Xi'an High-tech Zone, Xi'an, China.
| Huawei Terminal (Shenzhen) Co., Ltd., Huawei Base, B1, Shenzhen, China.
| Nanchang Huawei Communication Technology, No. 188 Huoju Street, F10-11, Nanchang, China.
| Ningbo Huawei Computer & Net Co., Ltd., No. 48 Daliang Street, Ningbo, China.
| Shanghai Huawei Technologies Co., Ltd., R&D center, No. 2222, Golden Bridge Road, Pu Dong District, Shanghai, 286305 Shanghai, China, China.
| Shenzhen Huawei Anjiexin Electricity Co., Ltd., a.k.a., the following one alias:
| —Shenzhen Huawei Agisson Electric Co., Ltd. Building 2, Area B, Putian Huawei Base, Longgang District, Shenzhen, China; and Huawei Base, Building 2, District B, Shenzhen, China.
| Shenzhen Huawei New Technology Co., Ltd., Huawei Production Center, Gangtou Village, Buji Town, Longgang District, Shenzhen, China.
| Shenzhen Huawei Technology Service, Hauwei Base, Building 2, District B, Shenzhen, China.
| Shenzhen Huawei Technologies Software, Huawei Base, Building 2, District B, Shenzhen, China.
| Zhejiang Huawei Communications Technology Co., Ltd., No. 360 Jiangshu Road, Building 5, Hangzhou, Zhejiang, China.
| Huawei Technologies Service Co., Ltd., Langfang, Hebei, China. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29853, 5/19/20. 85 FR 36720, 6/18/20. 85 FR [INSERT FR PAGE NUMBER]; 8/20/20.
| Huawei Training (Dongguan) Co., Ltd., Dongguan, Guangdong, China. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29853, 5/19/20. 85 FR 36720, 6/18/20. 85 FR [INSERT FR PAGE NUMBER]; 8/20/20.
| Huayi Internet Information Service Co., Ltd., Shenzhen, Guangdong, China. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29853, 5/19/20. 85 FR 36720, 6/18/20. 85 FR [INSERT FR PAGE NUMBER]; 8/20/20.
| Hui Tong Business Ltd., Huawei Base, Electrical Research Center, Shenzhen, China. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 43495, 8/21/19. 85 FR 29853, 5/19/20. 85 FR 36720, 6/18/20. 85 FR [INSERT FR PAGE NUMBER]; 8/20/20.
| * * * * * *
| North Huawei Communication Technology Co., Ltd., Beijing, China. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29853, 5/19/20. 85 FR 36720, 6/18/20. 85 FR [INSERT FR PAGE NUMBER]; 8/20/20.
| * * * * * *
| Shanghai Haisi Technology Co., Ltd., Shanghai, China. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29853, 5/19/20. 85 FR 36720, 6/18/20. 85 FR [INSERT FR PAGE NUMBER]; 8/20/20.
| Shanghai HiSilicon Technologies Co., Ltd., Room 101, No. 318, Shuixiu Road, Jinze Town (Xiqi), Qingpu District, Shanghai, China. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 43495, 8/21/19. 85 FR 29853, 5/19/20. 85 FR 36720, 6/18/20. 85 FR [INSERT FR PAGE NUMBER]; 8/20/20.
| Shanghai Mossel Trade Co., Ltd., Shanghai, China. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29853, 5/19/20. 85 FR 36720, 6/18/20. 85 FR [INSERT FR PAGE NUMBER]; 8/20/20.
| * * * * * *
| Shenzhen HiSilicon Technologies Co., Electrical Research Center, Huawei Base, Shenzhen, China. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 43495, 8/21/19. 85 FR 29853, 5/19/20. 85 FR 36720, 6/18/20. 85 FR [INSERT FR PAGE NUMBER]; 8/20/20.
| Shenzhen Huawei Technical Services Co., Ltd., Shenzhen, Guangdong, China. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29853, 5/19/20. 85 FR 36720, 6/18/20. 85 FR [INSERT FR PAGE NUMBER]; 8/20/20.
| Shenzhen Huawei Terminal Commercial Co., Ltd., Shenzhen, Guangdong, China. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29853, 5/19/20. 85 FR 36720, 6/18/20. 85 FR [INSERT FR PAGE NUMBER]; 8/20/20.
| Shenzhen Huawei Training School Co., Ltd., Shenzhen, Guangdong, China. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29853, 5/19/20. 85 FR 36720, 6/18/20. 85 FR [INSERT FR PAGE NUMBER]; 8/20/20.
| Shenzhen Huayi Loan Small Loan Co., Ltd., Shenzhen, Guangdong, China. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29853, 5/19/20. 85 FR 36720, 6/18/20. 85 FR [INSERT FR PAGE NUMBER]; 8/20/20.
| Shenzhen Legrit Technology Co., Ltd., Shenzhen, Guangdong, China. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29853, 5/19/20. 85 FR 36720, 6/18/20. 85 FR [INSERT FR PAGE NUMBER]; 8/20/20.
| Shenzhen Smartcom Business Co., Ltd., Shenzhen, Guangdong, China. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29853, 5/19/20. 85 FR 36720, 6/18/20. 85 FR [INSERT FR PAGE NUMBER]; 8/20/20.
| * * * * * *
| Suzhou Huawei Investment Co., Ltd., Suzhou, Jiangsu, China. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29853, 5/19/20. 85 FR 36720, 6/18/20. 85 FR [INSERT FR PAGE NUMBER]; 8/20/20.
| * * * * * *
| Wuhan Huawei Investment Co., Ltd., Wuhan, Hubei, China. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29853, 5/19/20. 85 FR 36720, 6/18/20. 85 FR [INSERT FR PAGE NUMBER]; 8/20/20.
| * * * * * *
| Wulanchabu Huawei Cloud Computing Technology, a.k.a., the following one alias: —Ulan Qab Huawei Cloud Computing Technology. Huawei Cloud Data Center at the Intersection of Manda Road and Jingqi Road, Jining District, Wulanchabu City, Inner Mongolia Autonomous Region, China. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 85 FR [INSERT FR PAGE NUMBER]; 8/20/20.
| * * * * * *
| Xi'an Huawei Technologies Co., Ltd., Xi'an, Shaanxi, China. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29853, 5/19/20. 85 FR 36720, 6/18/20. 85 FR [INSERT FR PAGE NUMBER]; 8/20/20.
| * * * * * *
| Xi'an Ruixin Investment Co., Ltd., Xi'an, Shaanxi, China. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29853, 5/19/20. 85 FR 36720, 6/18/20. 85 FR [INSERT FR PAGE NUMBER]; 8/20/20.
| * * * * * *
COSTA RICA | Huawei Technologies Costa Rica SA, a.k.a., the following one alias: —Huawei Technologies Costa Rica Sociedad Anonima. S.J, Sabana Norte, Detras De Burger King, Edif Gru, Po Nueva, San Jose, Costa Rica. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 43495, 8/21/19. 85 FR 29853, 5/19/20. 85 FR 36720, 6/18/20. 85 FR [INSERT FR PAGE NUMBER]; 8/20/20.
* * * * * * *
CUBA | Huawei Cuba, Cuba. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 43495, 8/21/19. 85 FR 29853, 5/19/20. 85 FR 36720, 6/18/20. 85 FR [INSERT FR PAGE NUMBER]; 8/20/20.
* * * * * * *
DENMARK | Huawei Denmark, Vestre Teglgade 9, Kobenhavn Sv, Hovedstaden, 2450, Denmark. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 43495, 8/21/19. 85 FR 29853, 5/19/20. 85 FR 36720, 6/18/20. 85 FR [INSERT FR PAGE NUMBER]; 8/20/20.
EGYPT | * * * * * *
| Huawei OpenLab Cairo, a.k.a., the following one alias: —Huawei Cairo OpenLab. Cairo-Alex Desert Rd, Al Giza Desert, Giza Governorate, Egypt. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 85 FR [INSERT FR PAGE NUMBER]; 8/20/20.
| Huawei Technology, Cairo, Egypt. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29853, 5/19/20. 85 FR 36720, 6/18/20. 85 FR [INSERT FR PAGE NUMBER]; 8/20/20.
* * * * * *
FRANCE | * * * * * *
| Huawei Cloud France, Paris, France. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 85 FR [INSERT FR PAGE NUMBER]; 8/20/20.
| Huawei France, a.k.a., the following one alias: —Huawei Technologies France SASU. 36-38, quai du Point du Jour, 92659 Boulogne-Billancourt cedex, France. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 43495, 8/21/19. 85 FR 29853, 5/19/20. 85 FR 36720, 6/18/20. 85 FR [INSERT FR PAGE NUMBER]; 8/20/20.
| Huawei OpenLab Paris, a.k.a., the following one alias: —Huawei Paris OpenLab. 101 Boulevard Murat, 75016 Paris, France. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 85 FR [INSERT FR PAGE NUMBER]; 8/20/20.
| * * * * * *
* * * * * * *
GERMANY | * * * * * *
| Huawei Cloud Berlin, Berlin Germany. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 85 FR [INSERT FR PAGE NUMBER]; 8/20/20.
| Huawei OpenLab Munich, a.k.a., the following one alias: —Huawei Munich OpenLab. Huawei Germany Region R&D Centre Riesstr. 22 80992 Munich, Germany; and Huawei Germany Region R&D Centre Riesstr. 12 80992 Munich, Germany. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Case-by-case review | 85 FR [INSERT FR PAGE NUMBER]; 8/20/20.
| Huawei Technologies Deutschland GmbH, Germany. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29853, 5/19/20. 85 FR 36720, 6/18/20. 85 FR [INSERT FR PAGE NUMBER]; 8/20/20.
| Huawei Technologies Dusseldorf GmbH, Huawei Germany Region R&D Centre Riesstr. 25, 80992 Munich, Germany, and Am Seestern 24 Duesseldorf, D-40547 Germany. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 85 FR [INSERT FR PAGE NUMBER]; 8/20/20.
| * * * * * *
* * * * * * *
HONG KONG | * * * * * *
| Hua Ying Management Co. Limited, Tsim Sha Tsui, Kowloon, Hong Kong. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29853, 5/19/20. 85 FR 36720, 6/18/20. 85 FR [INSERT FR PAGE NUMBER]; 8/20/20.
| Huawei Cloud Hong Kong, Hong Kong. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | See § 744.2(d) of the EAR. | 85 FR [INSERT FR PAGE NUMBER]; 8/20/20.
| Huawei Device (Hong Kong) Co., Limited, Tsim Sha Tsui, Kowloon, Hong Kong. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29853, 5/19/20. 85 FR 36720, 6/18/20. 85 FR [INSERT FR PAGE NUMBER]; 8/20/20.
| Huawei International Co., Limited, Hong Kong. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29853, 5/19/20. 85 FR 36720, 6/18/20. 85 FR [INSERT FR PAGE NUMBER]; 8/20/20.
| Huawei Tech. Investment Co., Limited, Hong Kong. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29853, 5/19/20. 85 FR 36720, 6/18/20. 85 FR [INSERT FR PAGE NUMBER]; 8/20/20.
| Huawei Technologies Co. Ltd., Tsim Sha Tsui, Kowloon, Hong Kong. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29853, 5/19/20. 85 FR 36720, 6/18/20. 85 FR [INSERT FR PAGE NUMBER]; 8/20/20.
| * * * * * *
| Smartcom (Hong Kong) Co., Limited, Sheung Wan, Hong Kong. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29853, 5/19/20. 85 FR 36720, 6/18/20. 85 FR [INSERT FR PAGE NUMBER]; 8/20/20.
| * * * * * *
INDIA | * * * * * *
| Huawei OpenLab Delhi, a.k.a., the following one alias: —Huawei Delhi OpenLab. Delhi, India. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 85 FR [INSERT FR PAGE NUMBER]; 8/20/20.
| Huawei Technologies India Private Limited, a.k.a., the following one alias: —Huawei Technologies India Pvt., Ltd. Level-3/4, Leela Galleria, The Leela Palace, No. 23, Airport Road, Bengaluru, 560008, India; and SYNO 37, 46,45/3,45/4 ETC KNO 1540, Kundalahalli Village Bengaluru Bangalore KA 560037 India. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 43495, 8/21/19. 85 FR 29853, 5/19/20. 85 FR 36720, 6/18/20. 85 FR [INSERT FR PAGE NUMBER]; 8/20/20.
| * * * * * *
INDONESIA | Huawei Tech Investment, PT, Bri Ii Building 20Th Floor, Suite 2005 , Jl. Jend., Sudirman Kav. 44-46, Jakarta, 10210, Indonesia. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 43495, 8/21/19. 85 FR 29853, 5/19/20. 85 FR 36720, 6/18/20. 85 FR [INSERT FR PAGE NUMBER]; 8/20/20.
| * * * * * *
ISRAEL | * * * * * *
| Toga Networks, 4 Haharash St., Hod Hasharon, Israel. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 85 FR [INSERT FR PAGE NUMBER]; 8/20/20.
| * * * * * *
ITALY | Huawei Italia, Via Lorenteggio, 240, Tower A, 20147 Milan, Italy. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 43495, 8/21/19. 85 FR 29853, 5/19/20. 85 FR 36720, 6/18/20. 85 FR [INSERT FR PAGE NUMBER]; 8/20/20.
| Huawei Milan Research Institute, Milan, Italy. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 43495, 8/21/19. 85 FR 29853, 5/19/20. 85 FR 36720, 6/18/20. 85 FR [INSERT FR PAGE NUMBER]; 8/20/20.
JAMAICA | Huawei Technologies Jamaica Company Limited, Kingston, Jamaica. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29853, 5/19/20. 85 FR 36720, 6/18/20. 85 FR [INSERT FR PAGE NUMBER]; 8/20/20.
JAPAN | Huawei Technologies Japan K.K., Japan. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29853, 5/19/20. 85 FR 36720, 6/18/20. 85 FR [INSERT FR PAGE NUMBER]; 8/20/20.
JORDAN | Huawei Technologies Investment Co. Ltd., Amman, Jordan. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29853, 5/19/20. 85 FR 36720, 6/18/20. 85 FR [INSERT FR PAGE NUMBER]; 8/20/20.
| * * * * * *
KAZAKHSTAN | * * * * * *
| Huawei Technologies LLC Kazakhstan, 191 Zheltoksan St., 5th floor, 050013, Bostandyk, District of Almaty, Republic of Kazakhstan. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 43495, 8/21/19. 85 FR 29853, 5/19/20. 85 FR 36720, 6/18/20. 85 FR [INSERT FR PAGE NUMBER]; 8/20/20.
| * * * * * *
LEBANON | * * * * * *
| Huawei Technologies Lebanon, Beirut, Lebanon. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29853, 5/19/20. 85 FR 36720, 6/18/20. 85 FR [INSERT FR PAGE NUMBER]; 8/20/20.
| * * * * * *
* * * * * * *
MADAGASCAR | Huawei Technologies Madagascar Sarl, Antananarivo, Madagascar. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29853, 5/19/20. 85 FR 36720, 6/18/20. 85 FR [INSERT FR PAGE NUMBER]; 8/20/20.
* * * * * * *
MEXICO | Huawei Cloud Mexico, Mexico City, Mexico. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 85 FR [INSERT FR PAGE NUMBER]; 8/20/20.
| Huawei OpenLab Mexico City, a.k.a., the following one alias: —Huawei Mexico City OpenLab. Mexico City, Mexico. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 85 FR [INSERT FR PAGE NUMBER]; 8/20/20.
| Huawei Technologies De Mexico S.A., Avenida Santa Fé No. 440, Torre Century Plaza Piso 15, Colonia Santa Fe, Delegación Cuajimalpa de Morelos, C.P. 05348, Distrito Federal, CDMX, Mexico; and Laza Carso, Torre Falcón, Lago Zurich No. 245, Piso 18, Colonia Ampliacion Granda, Delegación Miguel Hidalgo, CDMX, Mexico. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 43495, 8/21/19. 85 FR 29853, 5/19/20. 85 FR 36720, 6/18/20. 85 FR [INSERT FR PAGE NUMBER]; 8/20/20.
MOROCCO | Huawei Technologies Morocco, Immeuble High Tech, 4eme Etage, Plateaux N 11, 12 Et 13, Hay Riad—Rabat, Morocco. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 85 FR [INSERT FR PAGE NUMBER]; 8/20/20.
NETHERLANDS | * * * * * *
| Huawei Cloud Netherlands, Amsterdam, Netherlands. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 85 FR [INSERT FR PAGE NUMBER]; 8/20/20.
| Huawei Technologies Coöperatief U.A., Netherlands. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29853, 5/19/20. 85 FR 36720, 6/18/20. 85 FR [INSERT FR PAGE NUMBER]; 8/20/20.
| * * * * * *
NEW ZEALAND | Huawei Technologies (New Zealand) Company Limited, 80 Queen Street, Auckland Central, Auckland, 1010, New Zealand. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 43495, 8/21/19. 85 FR 29853, 5/19/20. 85 FR 36720, 6/18/20. 85 FR [INSERT FR PAGE NUMBER]; 8/20/20.
* * * * * * *
OMAN | Huawei Tech Investment Oman LLC, Muscat, Oman. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29853, 5/19/20. 85 FR 36720, 6/18/20. 85 FR [INSERT FR PAGE NUMBER]; 8/20/20.
| * * * * * *
PAKISTAN | * * * * * *
| Huawei Technologies Pakistan (Private) Limited, Islamabad, Pakistan. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29853, 5/19/20. 85 FR 36720, 6/18/20. 85 FR [INSERT FR PAGE NUMBER]; 8/20/20.
| * * * * * *
PANAMA | Huawei Technologies Cr Panama S.A, Ave. Paseo del Mar, Costa del Este Torre MMG, Piso 17 Ciudad de Panamá, Panama. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 43495, 8/21/19. 85 FR 29853, 5/19/20. 85 FR 36720, 6/18/20. 85 FR [INSERT FR PAGE NUMBER]; 8/20/20.
| * * * * * *
PARAGUAY | Huawei Technologies Paraguay S.A., Asuncion, Paraguay. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29853, 5/19/20. 85 FR 36720, 6/18/20. 85 FR [INSERT FR PAGE NUMBER]; 8/20/20.
PERU | Huawei Cloud Peru, Lima, Peru. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 85 FR [INSERT FR PAGE NUMBER]; 8/20/20.
* * * * * * *
PORTUGAL | Huawei Technology Portugal, Avenida Dom João II, 51B—11°.A 1990-085 Lisboa, Portugal. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 43495, 8/21/19. 85 FR 29853, 5/19/20. 85 FR 36720, 6/18/20. 85 FR [INSERT FR PAGE NUMBER]; 8/20/20.
QATAR | Huawei Tech Investment Limited, Doha, Qatar. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29853, 5/19/20. 85 FR 36720, 6/18/20. 85 FR [INSERT FR PAGE NUMBER]; 8/20/20.
ROMANIA | Huawei Technologies Romania Co., Ltd., Ion Mihalache Blvd., No. 15-17,1st District, 9th Floor of Bucharest Tower center, Bucharest, Romania. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 43495, 8/21/19. 85 FR 29853, 5/19/20. 85 FR 36720, 6/18/20. 85 FR [INSERT FR PAGE NUMBER]; 8/20/20.
| * * * * * *
RUSSIA | * * * * * *
| Huawei Cloud Russia, Moscow, Russia. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 85 FR [INSERT FR PAGE NUMBER]; 8/20/20.
| Huawei OpenLab Moscow, a.k.a., the following one alias: —Huawei Moscow OpenLab. Moscow, Russia. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 85 FR [INSERT FR PAGE NUMBER]; 8/20/20.
| Huawei Russia, Business-Park “Krylatsky Hills”, 17 bldg. 2, Krylatskaya Str., Moscow 121614, Russia. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 43495, 8/21/19. 85 FR 29853, 5/19/20. 85 FR 36720, 6/18/20. 85 FR [INSERT FR PAGE NUMBER]; 8/20/20.
| * * * * * *
* * * * * * *
SINGAPORE | * * * * * *
| Huawei Cloud Singapore, Singapore, Singapore. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 85 FR [INSERT FR PAGE NUMBER]; 8/20/20.
| Huawei International Pte. Ltd., Singapore. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29853, 5/19/20. 85 FR 36720, 6/18/20. 85 FR [INSERT FR PAGE NUMBER]; 8/20/20.
| Huawei OpenLab Singapore, a.k.a., the following one alias: —Huawei Singapore OpenLab. Singapore, Singapore. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 85 FR [INSERT FR PAGE NUMBER]; 8/20/20.
| * * * * * *
SOUTH AFRICA | * * * * * *
| Huawei Cloud South Africa, Johannesburg, South Africa. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 85 FR [INSERT FR PAGE NUMBER]; 8/20/20.
| Huawei OpenLab Johannesburg, a.k.a., the following one alias: —Huawei Johannesburg OpenLab. Johannesburg, South Africa. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 85 FR [INSERT FR PAGE NUMBER]; 8/20/20.
| Huawei Technologies South Africa Pty Ltd., 128 Peter St Block 7 Grayston Office Park, Sandton, Gauteng, 1682, South Africa. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 43495, 8/21/19. 85 FR 29853, 5/19/20. 85 FR 36720, 6/18/20. 85 FR [INSERT FR PAGE NUMBER]; 8/20/20.
| * * * * * *
| * * * * * *
* * * * * * *
SRI LANKA | Huawei Technologies Lanka Company (Private) Limited, Colombo, Sri Lanka. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29853, 5/19/20. 85 FR 36720, 6/18/20. 85 FR [INSERT FR PAGE NUMBER]; 8/20/20.
SWEDEN | * * * * * *
| Huawei Sweden, Skalholtsgatan 9-11 Kista, 164 40 Stockholm, Sweden. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 43495, 8/21/19. 85 FR 29853, 5/19/20. 85 FR 36720, 6/18/20. 85 FR [INSERT FR PAGE NUMBER]; 8/20/20.
SWITZERLAND | * * * * * *
| Huawei Cloud Switzerland, Bern, Switzerland. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 85 FR [INSERT FR PAGE NUMBER]; 8/20/20.
| Huawei Technologies Switzerland AG, Liebefeld, Bern, Switzerland. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29853, 5/19/20. 85 FR 29853, 5/19/20. 85 FR 36720, 6/18/20. 85 FR [INSERT FR PAGE NUMBER]; 8/20/20.
| * * * * * *
* * * * * * *
TAIWAN | * * * * * *
| Xunwei Technologies Co., Ltd., Taipei, Taiwan. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29853, 5/19/20. 85 FR 36720, 6/18/20. 85 FR [INSERT FR PAGE NUMBER]; 8/20/20.
| * * * * * *
THAILAND | * * * * * *
| Huawei Cloud Thailand, Bangkok, Thailand. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 85 FR [INSERT FR PAGE NUMBER]; 8/20/20.
| Huawei OpenLab Bangkok, a.k.a., the following one alias: —Huawei Bangkok OpenLab. Bangkok, Thailand. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 85 FR [INSERT FR PAGE NUMBER]; 8/20/20.
| Huawei Technologies (Thailand) Co., 87/1 Wireless Road, 19th Floor, Capital Tower, All Seasons Place, Pathumwan, Bangkok, 10330, Thailand. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 43495, 8/21/19. 85 FR 29853, 5/19/20. 85 FR 36720, 6/18/20. 85 FR [INSERT FR PAGE NUMBER]; 8/20/20.
| * * * * * *
TURKEY | * * * * * *
| Huawei OpenLab Istanbul, a.k.a., the following one alias: —Huawei Istanbul OpenLab. Istanbul, Turkey. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 85 FR [INSERT FR PAGE NUMBER]; 8/20/20.
| * * * * * *
* * * * * * *
UNITED ARAB EMIRATES | * * * * * *
| Huawei OpenLab Dubai, a.k.a., the following one alias: —Huawei Dubai OpenLab. Dubai, United Arab Emirates. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 85 FR [INSERT FR PAGE NUMBER]; 8/20/20.
| * * * * * *
UNITED KINGDOM | * * * * * *
| Centre for Integrated Photonics Ltd., B55 Adastral Park, Pheonix House, Martlesham Heath, Ipswich, IP5 3RE United Kingdom. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 43495, 8/21/19. 85 FR 29853, 5/19/20. 85 FR 36720, 6/18/20. 85 FR [INSERT FR PAGE NUMBER]; 8/20/20.
| * * * * * *
| Huawei Global Finance (UK) Limited, Great Britain. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29853, 5/19/20. 85 FR 36720, 6/18/20. 85 FR [INSERT FR PAGE NUMBER]; 8/20/20.
| Huawei Technologies R&D UK, a.k.a., the following two aliases: —Huawei Research & Development (UK) Ltd; and —Huawei Technologies Research & Development (UK)). Former Spicers Site Sawston Bypass Sawston Cambridge Cambridgeshire CB22 3JG, England; and 302 Cambridge Science Park, Milton Road, Cambridge, CB4 0WG, England; and Phoenix House (B55) Adastral Park, Martlesham Heath, Ipswich, Suffolk. IP5 3RE. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 85 FR [INSERT FR PAGE NUMBER]; 8/20/20.
| Huawei Technologies (UK) Co., Ltd., a.k.a., the following one alias: —Huawei Software Technologies Co. Ltd. 300 South Oak Way, Green Park, Reading, RG2 6UF; and 6 Mitre Passage, SE 10 0ER, United Kingdom. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 43495, 8/21/19. 85 FR 29853, 5/19/20. 85 FR 36720, 6/18/20. 85 FR [INSERT FR PAGE NUMBER]; 8/20/20.
| * * * * * *
| Proven Glory, British Virgin Islands | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29853, 5/19/20. 85 FR 36720, 6/18/20. 85 FR [INSERT FR PAGE NUMBER]; 8/20/20.
| Proven Honour, British Virgin Islands. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29853, 5/19/20. 85 FR 36720, 6/18/20. 85 FR [INSERT FR PAGE NUMBER]; 8/20/20.
| * * * * * *
VIETNAM | Huawei Technologies (Vietnam) Company Limited, Hanoi, Vietnam. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29853, 5/19/20. 85 FR 36720, 6/18/20. 85 FR [INSERT FR PAGE NUMBER]; 8/20/20.
| Huawei Technology Co. Ltd., Hanoi, Vietnam. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29853, 5/19/20. 85 FR 36720, 6/18/20. 85 FR [INSERT FR PAGE NUMBER]; 8/20/20.
¹ Foreign-produced direct product items involving footnote 1 designated entities. You may not reexport, export from abroad, or transfer (in-country) without a license or license exception any foreign-produced item specified in paragraph (a) or (b) of this footnote when there is “knowledge” that:
(1) The foreign-produced item will be incorporated into, or will be used in the “production” or “development” of any “part,” “component,” or “equipment” produced, purchased, or ordered by any entity with a footnote 1 designation in the license requirement column of this supplement; or
(2) Any entity with a footnote 1 designation in the license requirement column of this supplement is a party to any transaction involving the foreign-produced item, e.g., as a “purchaser,” “intermediate consignee,” “ultimate consignee,” or “end-user.”
Note to introductory paragraph of footnote 1: Sophistication and capabilities of technology in items is a factor in license application review; license applications for foreign-produced items controlled by this footnote that are capable of supporting the “development” or “production” of telecom systems, equipment and devices at only below the 5G level (e.g., 4G, 3G, etc.) will be reviewed on a case-by-case basis.
(a) Direct product of “technology” or “software” subject to the EAR and specified in certain Category 3, 4 or 5 ECCNs. The foreign-produced item is a direct product of “technology” or “software” subject to the EAR and specified in Export Control Classification Number (ECCN) 3D001, 3D991, 3E001, 3E002, 3E003, 3E991, 4D001, 4D993, 4D994, 4E001, 4E992, 4E993, 5D001, 5D991, 5E001, or 5E991 of the Commerce Control List (CCL) in supplement no. 1 to part 774 of the EAR.
(b) Direct product of a plant or major component of a plant. The foreign-produced item is produced by any plant or major component of a plant that is located outside the United States, when the plant or major component of a plant, whether made in the U.S. or a foreign country, itself is a direct product of U.S.-origin “technology” or “software” subject to the EAR that is specified in ECCN 3D001, 3D991, 3E001, 3E002, 3E003, 3E991, 4D001, 4D993, 4D994, 4E001, 4E992, 4E993, 5D001, 5D991, 5E001, or 5E991 of the CCL.
Notes to paragraph (b) of footnote 1:
(1) A major component of a plant located outside the United States means equipment that is essential to the “production” of an item, including testing equipment.
(2) A foreign-produced item includes any foreign-produced wafer whether finished or unfinished.
² Cybersecurity research and vulnerability disclosure. The following exports, reexports, and transfers (in-country) to Huawei Technologies Co., Ltd. (Huawei) and its non-U.S. affiliates on the Entity List for cybersecurity research and vulnerability disclosure subject to other provisions of the EAR are excluded from the Entity List license requirements: when the disclosure to Huawei and/or to its listed non-U.S. affiliates is limited to information regarding security vulnerabilities in items owned, possessed, or controlled by Huawei or any of its non-U.S. affiliates when related to the process of providing ongoing security research critical to maintaining the integrity and reliability of existing and currently `fully operational network' and equipment. A `fully operational network' refers to a `third party' network providing services to the `third party's' customers. The term `third party' refers to a party that is not Huawei, one of its listed non-U.S. affiliates, or the exporter, reexporter, or transferor, but rather an organization such as a telecommunications service provider.

PART 762—[AMENDED]

5. The authority citation for part 762 is continues to read as follows:

Authority: 50 U.S.C. 4801-4852; 50 U.S.C. 4601 et seq.; 50 U.S.C. 1701 et seq.; E.O. 13222, 66 FR 44025, 3 CFR, 2001 Comp., p. 783.

§ 762.2 [AMENDED]

6. Section 762.2 is amended:

a. By adding the word “and” at the end of paragraph (b)(53); and

b. By removing the semi-colon at the end of paragraph (b)(54) and adding a period in its place.

Matthew S. Borman,
Deputy Assistant Secretary for Export Administration.

[FR Doc. 2020-18213 Filed 8-17-20; 2:30 pm]

BILLING CODE 3510-33-P